DEPARTMENT OF COMMERCE

National Oceanic and Atmospheric Administration

[RTID 0648-XC028]

South Atlantic Fishery Management Council; Public Meeting

AGENCY: National Marine Fisheries Service (NMFS), National Oceanic and Atmospheric Administration (NOAA), Commerce.

ACTION: Notice of public meetings.

SUMMARY: The South Atlantic Fishery Management Council (Council) will hold meetings of the following: Snapper Grouper Committee; Dolphin Wahoo Committee; and Citizen Science Committee. The meeting week will also include an informal public Question and Answer (Q&A) session, formal public comment session, a public hearing, and a meeting of the Full Council.

DATES: The Council meetings will be held from 8:30 a.m. on Monday, June 13, 2022, until 12 p.m. on Friday, June 17, 2022.

ADDRESSES: Meeting address: The meeting will be held at the Key West Marriott Beachside, 3841 N Roosevelt Blvd., Key West, FL 33040; phone: (305) 296-8100. The meeting will also be available via webinar. Registration is required. See SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: http://safmc.net/safmc-meetings/council-meetings/. Webinar registration links for the meeting will also be available from the Council's website.

Public comment: Public comment on agenda items may be submitted through the Council's online comment form available from the Council's website at: http://safmc.net/safmc-meetings/council-meetings/. Comments will be accepted from May 27, 2022, until June 17, 2022. These comments are accessible to the public, part of the Administrative Record of the meeting, and immediately available for Council consideration.

The items of discussion in the individual meeting agendas are as follows:

Council Session I, Monday, June 13, 2022, 8:30 a.m. Until 10:30 a.m. (Closed Session)

The Council will review applications for its advisory panels, Scientific and Statistical Committee (SSC), and Socio-Economic Panel (SEP) and consider appointments. The Council will also review nominations for the 2021 Law Enforcement Officer of the Year.

Council Session I, Monday, June 13, 2022, 10:30 a.m. Until 5 p.m. (Open Session)

The Council will receive reports from state agencies, Council liaisons, NOAA Office of Law Enforcement, and the U.S. Coast Guard. The Council will review input from the SEP on a data-gathering tool to inform sector allocations, review an options paper for the Commercial Electronic Logbook Amendment, review the Acceptable Biological Catch Control Rule Amendment, and receive a presentation from NOAA Fisheries on progress towards meeting the Council's research recommendations.

Snapper Grouper Committee, Tuesday, June 14, 2022, 8:30 a.m. Until 5 p.m. and Wednesday, June 15, 2022, From 8:30 a.m. Until 3:45 p.m.

The Committee will review input received on Snapper Grouper Regulatory Amendment 35 (Release Mortality Reduction and Red Snapper Catch Levels) from its Snapper Grouper Advisory Panel (AP) and the SSC and receive an overview of options for the amendment. The Committee will provide further guidance on actions to explore in the amendment to reduce the number of dead releases in the fishery and improve survival of released fish.

The Committee will review Snapper Grouper Amendment 53 addressing management of Gag, consider recommendations from the AP, and receive an overview of the amendment and analyses to date. The Committee will review Snapper Grouper Amendment 52, addressing management of golden tilefish and blueline tilefish, and Amendment 51, addressing management of snowy grouper. The Committee will consider recommendations from the AP, receive an overview of the amendments and analyses to date, and consider approving the amendments for public hearings.

The Committee will consider recommendations from its AP on Snapper Grouper Amendment 49, addressing management of greater amberjack, and receive an overview and update on analyses to date. A public hearing for Snapper Grouper Amendment 49 will be held as part of the public comment period scheduled for Wednesday, June 15, at 4 p.m. Finally, the Committee will receive input from the AP on items not addressed on the agenda, receive an update on the South Atlantic Reef Fish Observer Coverage Expansion, and review any Exempted Fishery Permits if needed.

Informal Q&A Session, Tuesday, June 14, 2022, 5 p.m. Until 6 p.m.

The Council will host an informal Q&A for members of the public to discuss issues relevant to federal fisheries management in the South Atlantic region.

Formal Public Comment, Wednesday, June 15, 2022, 4 p.m.—Public comment will be accepted from individuals attending the meeting in person and via webinar on all items on the Council meeting agenda. The Council Chair will determine the amount of time provided to each commenter based on the number of individuals wishing to comment.

Dolphin Wahoo Committee, Thursday, June 16, 2022, 8:30 a.m. Until 12 p.m.

The Committee will receive recommendations from its Dolphin Wahoo AP on Regulatory Amendment 3 to the Dolphin Wahoo Fishery Management Plan for the Atlantic. The draft amendment currently includes options to address size limits and recreational retention limits for Dolphin. The Committee will also consider AP input on items not on the agenda and receive a presentation from NOAA Fisheries on the Development of Empirical Management Procedures for Dolphin.

Citizen Science Committee, Thursday, June 16, 2022, 1:30 p.m. Until 3:30 p.m.

The Committee will receive a presentation on program evaluation interview findings and next steps, highlights from the FISHstory project, an update on the snowy grouper project and a general program update.

Council Session II, Thursday, June 16, 2022, 3:30 p.m. Until 5 p.m. and Friday, June 17, 2022, 8:30 a.m. Until 12 p.m.

The Council will receive a briefing on any legal issues, if needed, followed by a Council Coordination Committee report. The Council will receive reports from staff, an update on the Large Whale Take Reduction Team meeting and receive input from the SSC and SEP on items not on the meeting agenda. The Council will receive reports from NOAA Fisheries Southeast Regional Office and the Southeast Fisheries Science Center.

The Council will receive Committee reports, review its workplan for the next quarter, upcoming meetings, and take action as necessary. The Council will discuss any other business as needed.

Documents regarding these issues are available from the Council office (see ADDRESSES).

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: May 12, 2022.
Tracey L. Thompson,
Acting Deputy Director, Office of Sustainable Fisheries, National Marine Fisheries Service.

[FR Doc. 2022-10594 Filed 5-17-22; 8:45 am]

BILLING CODE 3510-22-P